DEPARTMENT OF THE INTERIOR

Fish and Wildlife Service

50 CFR Part 17

[4500030115]

Endangered and Threatened Wildlife and Plants; 90-Day Findings on Three Petitions

AGENCY: Fish and Wildlife Service, Interior.

ACTION: Notice of petition findings and initiation of status reviews.

SUMMARY: We, the U.S. Fish and Wildlife Service (Service), announce 90-day findings on three petitions to list or reclassify wildlife or plants under the Endangered Species Act of 1973, as amended (Act). Based on our review, we find that one petition does not present substantial scientific or commercial information indicating that the petitioned action may be warranted, and we are not initiating a status review in response to this petition. We refer to this as the “not-substantial” petition finding. We also find that two petitions present substantial scientific or commercial information indicating that the petitioned actions may be warranted. Therefore, with the publication of this document, we announce that we plan to initiate a review of the status of these species to determine if the petitioned actions are warranted. To ensure that these status reviews are comprehensive, we are requesting scientific and commercial data and other information regarding these species. Based on the status reviews, we will issue 12-month findings on the petitions, which will address whether the petitioned action is warranted, as provided in section 4(b)(3)(B) of the Act.

DATES: When we conduct status reviews, we will consider all information that we have received. To ensure that we will have adequate time to consider submitted information during the status reviews, we request that we receive information no later than January 30, 2017. For information submitted electronically using the Federal eRulemaking Portal (see ADDRESSES, below), this means submitting the information electronically by 11:59 p.m. Eastern Time on that date.

ADDRESSES: Not-substantial petition finding: A summary of the basis for the not-substantial petition finding contained in this document is available on http://www.regulations.gov under the appropriate docket number (see Table 1 under SUPPLEMENTARY INFORMATION), or on the Service's Web site at http://ecos.fws.gov. Supporting information in preparing this finding is available for public inspection, by appointment, during normal business hours by contacting the appropriate person, as specified in Table 3 under SUPPLEMENTARY INFORMATION. If you have new information concerning the status of, or threats to, this species or its habitat, please submit that information to the person listed in Table 3 under SUPPLEMENTARY INFORMATION.

Status reviews: You may submit information on species for which a status review is being initiated by one of the following methods:

(1) Electronically: Go to the Federal eRulemaking Portal: http://www.regulations.gov. In the Search box, enter the appropriate docket number (see Table 2 under SUPPLEMENTARY INFORMATION). Then, click on the Search button. After finding the correct document, you may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail or hand-delivery to: Public Comments Processing, Attn: [Insert appropriate docket number; see Table 2 under SUPPLEMENTARY INFORMATION]; U.S. Fish and Wildlife Service, MS: BPHC, 5275 Leesburg Pike; Falls Church, VA 22041-3803.

We request that you send information only by the methods described above. We will post all information we receive on http://www.regulations.gov. This generally means that we will post any personal information you provide us (see Request for Information for Status Reviews, below, for more information).

FOR FURTHER INFORMATION CONTACT: See Table 3 under SUPPLEMENTARY INFORMATION for specific people to contact for each species.

SUPPLEMENTARY INFORMATION:

Not-Substantial Finding

The not-substantial petition finding contained in this document is listed in Table 1 below, and a summary of the basis for the finding, along with supporting information, are available on http://www.regulations.gov under the appropriate docket number, or on the Service's Web site at http://ecos.fws.gov.

Table 1—Not-Substantial Finding
Common name | Docket No. | URL to Docket on http://www.regulations.gov
Tetraneuris verdiensis (Verde four-nerve daisy) | FWS-R2-ES-2016-0132 | http://www.regulations.gov/#!docketDetail;D=FWS-R2-ES-2016-0132.

Substantial Findings

List of Substantial Findings

The list of substantial findings contained in this document is given below in Table 2, and the basis for the findings, along with supporting information, are available on http://www.regulations.gov under the appropriate docket number, or on the Service's Web site at http://ecos.fws.gov.

Table 2—List of Substantial Findings for Which a Status Review Is Being Initiated
Common name | Docket No. | URL to Docket on http://www.regulations.gov
Leopard | FWS-HQ-ES-2016-0131 | http://www.regulations.gov/#!docketDetail;D=FWS-HQ-ES-2016-0131.
Lesser prairie-chicken | FWS-R2-ES-2016-0133 | http://www.regulations.gov/#!docketDetail;D=FWS-R2-ES-2016-0133.

Request for Information for Status Reviews

When we make a finding that a petition presents substantial information indicating that listing, reclassification, or delisting a species may be warranted, we are required to review the status of the species (status review). For the status review to be complete and based on the best available scientific and commercial information, we request information on these species from governmental agencies, Native American Tribes, the scientific community, industry, and any other interested parties. We seek information on:

(1) The species' biology, range, and population trends, including:

(a) Habitat requirements;

(b) Genetics and taxonomy;

(c) Historical and current range, including distribution patterns; and

(d) Historical and current population levels, and current and projected trends.

(2) The five factors that are the basis for making a listing, reclassification, or delisting determination for a species under section 4(a) of the Act (16 U.S.C. 1531 et seq.), including past and ongoing conservation measures that could decrease the extent to which one or more of the factors affect the species, its habitat, or both. The five factors are:

(a) The present or threatened destruction, modification, or curtailment of its habitat or range (Factor A);

(b) Overutilization for commercial, recreational, scientific, or educational purposes (Factor B);

(c) Disease or predation (Factor C);

(d) The inadequacy of existing regulatory mechanisms (Factor D); or

(e) Other natural or manmade factors affecting its continued existence (Factor E).

(3) The potential effects of climate change on the species and its habitat, and the extent to which it affects the habitat or range of the species.

If, after the status review, we determine that listing is warranted, we will propose critical habitat (see definition at section 3(5)(A) of the Act) for domestic (U.S.) species under section 4 of the Act, to the maximum extent prudent and determinable at the time we propose to list the species. Therefore, we also request data and information (submitted as provided for in ADDRESSES, above) for the species listed in Table 2 on:

(1) What may constitute “physical or biological features essential to the conservation of the species,” within the geographical range occupied by the species;

(2) Where these features are currently found;

(3) Whether or not any of these features may require special management considerations or protection;

(4) Specific areas outside the geographical area occupied by the species that are “essential for the conservation of the species”; and

(5) What, if any, critical habitat you think we should propose for designation if the species is proposed for listing, and why such habitat falls within the definition of “critical habitat” at section 3(5) of the Act.

Please include sufficient information with your submission (such as scientific journal articles or other publications) to allow us to verify any scientific or commercial information you include.

Submissions merely stating support for or opposition to the actions under consideration without providing supporting information, although noted, will not be considered in making a determination. Section 4(b)(1)(A) of the Act directs that determinations as to whether any species is an endangered or threatened species must be made “solely on the basis of the best scientific and commercial data available.”

You may submit your information concerning these status reviews by one of the methods listed in ADDRESSES. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Contacts

Contact information is provided below in Table 3 for both substantial and not-substantial findings.

Table 3—Contacts
Common name | Contact person
Leopard | Janine VanNorman, 703-358-2370; Janine_VanNorman@fws.gov.
Lesser prairie-chicken | Clay Nichols, 817-471-6357; clay_nichols@fws.gov.
Verde four-nerve daisy | Shaula Hedwall, 928-556-2118; shaula_hedwall@fws.gov.

If you use a telecommunications device for the deaf (TDD), please call the Federal Information Relay Service (FIRS) at 800-877-8339.

Background

Section 4(b)(3)(A) of the Act requires that we make a finding on whether a petition to list, delist, or reclassify a species presents substantial scientific or commercial information indicating that the petitioned action may be warranted. To the maximum extent practicable, we are to make this finding within 90 days of our receipt of the petition and publish our notice of the finding promptly in the Federal Register.

Our regulations in the Code of Federal Regulations (CFR) establish that the standard for substantial scientific or commercial information with regard to a 90-day petition finding is “that amount of information that would lead a reasonable person to believe that the measure proposed in the petition may be warranted” (50 CFR 424.14(b)). If we find that a petition presents substantial scientific or commercial information, we are required to promptly commence a review of the status of the species, and we will subsequently summarize the status review in our 12-month finding.

Section 4 of the Act (16 U.S.C. 1533) and its implementing regulations at 50 CFR part 424 set forth the procedures for adding a species to, or removing a species from, the Federal Lists of Endangered and Threatened Wildlife and Plants. A species may be determined to be an endangered or threatened species because of one or more of the five factors described in section 4(a)(1) of the Act (see Request for Information for Status Reviews, above).

In considering whether conditions described within one or more of the factors might constitute threats, we must look beyond the exposure of the species to those conditions to evaluate whether the species may respond to the conditions in a way that causes actual impacts to the species. If there is exposure to a condition and the species responds negatively, the condition qualifies as a stressor and, during the subsequent status review, we attempt to determine how significant the stressor is. If the stressor is sufficiently significant that it drives, or contributes to, the risk of extinction of the species such that the species may warrant listing as endangered or threatened as those terms are defined in the Act, the stressor constitutes a threat to the species. Thus, the identification of conditions that could affect a species negatively may not be sufficient to compel a finding that the information in the petition and our files is substantial. The information must include evidence sufficient to suggest that these conditions may be operative threats that individually or cumulatively act on the species to a sufficient degree that the species may meet the definition of an endangered or threatened species under the Act.

Evaluation of a Petition To List Tetraneuris verdiensis (Verde Four-nerve Daisy) as an Endangered or Threatened Species Under the Act

Additional information regarding our review of this petition can be found as an appendix at http://www.regulations.gov under Docket No. FWS-R2-ES-2016-0132 under the Supporting Documents section.

Species and Range

Tetraneuris verdiensis (Verde four-nerve daisy): Arizona.

Petition History

On April 21, 2016, we received a petition dated March 11, 2016, from the Center for Biological Diversity requesting that Tetraneuris verdiensis be listed as endangered or threatened and that critical habitat be designated for this species under the Act. The petition clearly identified itself as a petition under section 4 of the Act and included the identification information for the petitioner as required at 50 CFR 424.14(a). We responded to the petitioner on June 29, 2016, with an email message acknowledging the receipt of the petition. This finding addresses the petition.

Finding

Based on our review of the petition and sources cited in the petition, we find that the petition does not present substantial scientific or commercial information indicating that listing the Tetraneuris verdiensis may be warranted. Because the petition does not present substantial information indicating that listing Tetraneuris verdiensis may be warranted, we are not initiating a status review of this species in response to this petition. The basis and scientific support for this finding can be found as an appendix at http://www.regulations.gov under Docket No. FWS-R2-ES-2016-0132 under the Supporting Documents section. However, we ask that the public submit to us any new information that becomes available concerning the status of, or threats to, this species or its habitat at any time (see Table 3, above).

Evaluation of a Petition To Reclassify Leopards Currently Listed as Threatened Species to Endangered Species Under the Act

Additional information regarding our review of this petition can be found as an appendix at http://www.regulations.gov under Docket No. FWS-HQ-ES-2016-0131 under the Supporting Documents section.

Species and Range

Leopard (Panthera pardus): Democratic Republic of the Congo, Gabon, Kenya, and Uganda.

Petition History

On July 26, 2016, we received a petition dated July 25, 2016, from The Humane Society of the United States and the Fund for Animals, requesting that the leopard be reclassified as endangered throughout its range under the Act. The petition clearly identified itself as such and included the requisite identification information for the petitioner, required at 50 CFR 424.14(a). This finding addresses the petition.

Finding

Based on our review of the petition and sources cited in the petition, we find that the petition presents substantial scientific or commercial information indicating that reclassifying the leopard (Panthera pardus) as endangered throughout its range may be warranted, based on Factors A, B, D, and E (for a listing of the factors, see (2) under Request for Information for Status Reviews, above). However, during our status review, we will thoroughly evaluate all potential threats to the species, including the extent to which any protections or other conservation efforts have reduced those threats. Thus, for this species, the Service requests any information relevant to whether the species falls within the definition of an endangered species under section 3(6) of the Act, including information on the five listing factors under section 4(a)(1) and any other factors identified in this finding.

Evaluation of a Petition To List the Lesser Prairie-Chicken as an Endangered Species Under the Act

Additional information regarding our review of this petition can be found as an appendix at http://www.regulations.gov under Docket No. FWS-R2-ES-2016-0133 under the Supporting Documents section.

Species and Range

Lesser prairie-chicken (Tympanuchus pallidus): Colorado, Kansas, Oklahoma, New Mexico, Texas.

Petition History

On September 8, 2016, we received a petition dated September 8, 2016, from WildEarth Guardians, Center for Biological Diversity, and Defenders of Wildlife requesting that we list the lesser prairie-chicken (Tympanuchus pallidus) and three distinct population segments as endangered under the Act. The petition additionally requests that the sandsage and the shinnery oak prairie population segments be emergency listed as endangered under the Act. The petition clearly identified itself as such and included the requisite identification information for the petitioner, required at 50 CFR 424.14(a). We reviewed the information presented in the petition and did not find that an emergency listing under section 4(b)(7) of the Act was necessary. This finding addresses the petition.

Finding

Based on our review of the petition and sources cited in the petition, we find that the petition presents substantial scientific or commercial information indicating that listing the lesser prairie-chicken may be warranted, based on Factors A, D, and E (for a listing of the factors, see (2) under Request for Information for Status Reviews, above). However, during our status review, we will thoroughly evaluate all potential threats to the species, including the extent to which any protections or other conservation efforts have reduced those threats. Thus, for this species, the Service requests any information relevant to whether the species falls within the definition of either an endangered species under section 3(6) of the Act or a threatened species under section 3(20) of the Act, including information on the five listing factors under section 4(a)(1) and any other factors identified in this finding.

Conclusion

On the basis of our evaluation of the information presented in the petitions under section 4(b)(3)(A) of the Act, we have determined that the petition summarized above for Tetraneuris verdiensis (Verde four-nerve daisy) does not present substantial scientific or commercial information indicating that the requested action may be warranted. Therefore, we are not initiating a status review for this species.

The petitions summarized above for the leopard and lesser prairie-chicken present substantial scientific or commercial information indicating that the requested actions may be warranted.

Because we have found that these petitions present substantial information indicating that the petitioned actions may be warranted, we are initiating status reviews to determine whether these actions under the Act are warranted. At the conclusion of each status review, we will issue a finding, in accordance with section 4(b)(3)(B) of the Act, as to whether or not the petitioned action is warranted.

It is important to note that the standard for a 90-day finding differs from the Act's standard that applies to a status review to determine whether a petitioned action is warranted. In making a 90-day finding, we consider only the information in the petition and in our files, and we evaluate merely whether that information constitutes “substantial information” indicating that the petitioned action “may be warranted.” In a 12-month finding, we must complete a thorough status review of the species and evaluate the “best scientific and commercial data available” to determine whether a petitioned action “is warranted.” Because the Act's standards for 90-day and 12-month findings are different, a substantial 90-day finding does not mean that the 12-month finding will result in a “warranted” finding.

References Cited

A complete list of references cited is available on the Internet at http://www.regulations.gov and upon request from the appropriate lead field offices (contact the appropriate person listed in Table 3, above).

Authors

The primary authors of this notice are staff members of the Ecological Services Program, U.S. Fish and Wildlife Service.

Authority

The authority for these actions is the Endangered Species Act of 1973, as amended (16 U.S.C. 1531 et seq.).

Dated: November 16, 2016.
Daniel M. Ashe,
Director, U.S. Fish and Wildlife Service.

[FR Doc. 2016-28513 Filed 11-29-16; 8:45 am]

BILLING CODE 4333-15-P